NUCLEAR REGULATORY COMMISSION

[Docket No. 70-7016; NRC-2009-0157]

General Electric-Hitachi Global Laser Enrichment LLC, Commercial Laser-Based Uranium Enrichment Facility, Wilmington, North Carolina; NUREG-2120

AGENCY: Nuclear Regulatory Commission.

ACTION: Notice of availability of safety evaluation report.

SUMMARY: The Nuclear Regulatory Commission (NRC or the Commission) is considering the issuance of a license to General Electric-Hitachi Global Laser Enrichment LLC (GLE or the applicant) to authorize construction of a laser-based uranium enrichment facility and possession and use of byproduct material, source material, and special nuclear material (SNM). This proposed facility is proposed to be located in Wilmington, North Carolina. The NRC prepared a Safety Evaluation Report (SER) in support of this license application.

ADDRESSES: Please refer to Docket ID NRC-2009-0157 when contacting the NRC about the availability of information regarding this document. You may access information related to this document, which the NRC possesses and is publicly-available, using the following methods:

• Federal Rulemaking Web site: Go to http://www.regulations.gov and search for Docket ID NRC-2009-0157. Address questions about NRC dockets to Carol Gallagher; telephone: 301-492-3668; email: Carol.Gallagher@nrc.gov.

FOR FURTHER INFORMATION CONTACT: Timothy C. Johnson, Office of Nuclear Material Safety and Safeguards, U.S. Nuclear Regulatory Commission, Rockville, Maryland 20852; telephone: (301) 492-3121; email: Timothy.Johnson@nrc.gov.

SUPPLEMENTARY INFORMATION:

I. Introduction

By letter dated June 26, 2009, the applicant submitted to the NRC an application requesting a license, under Title 10 of the Code of Federal Regulations Parts 30, 40, and 70, to possess and use byproduct material, source material, and SNM in a laser-based uranium enrichment facility. Revisions to the application were submitted on March 23, 2010; June 25, 2010; December 16, 2010; March 29, 2011; August 1, 2011; August 12, 2011; October 14; and November 11, 2011. The Applicant proposes that the facility be located in Wilmington, North Carolina.

The NRC staff prepared the SER in support of this license application. The SER discusses the results of the safety review performed by the staff in the following areas: general information, organization and administration, Integrated Safety Analysis (ISA) and ISA summary, radiation protection, nuclear criticality safety, chemical process safety, fire safety, emergency management, environmental protection, decommissioning, management measures, material control and accounting, physical protection, physical security of the transportation of SNM of low strategic significance, human factors engineering, and electrical power and instrumentation and control systems.

II. Further Information

The SER is available online in the NRC's Electronic Reading Room at http://www.nrc.gov/reading-rm/adams.html. From this site, you can access the NRC's Agencywide Documents Access and Management System (ADAMS), which provides text and image files of NRC's public documents. The ADAMS Accession Number for the June 26, 2009, license application is ML091871003 and ML092110280. Revisions of the application are available at ADAMS Accession Numbers ML100910053, ML101810134, ML103610078, ML103610080, ML110960272, ML112140138, ML112290297, ML112990562, and ML11326A177. The ADAMS Accession Number for the February 2012 SER is ML12060A007.

If you do not have access to ADAMS or if there are problems in accessing the documents located in ADAMS, contact the NRC Public Document Room Reference staff at 800-397-4209, 301-415-4737, or via email to pdr.resource@nrc.gov. These documents may also be viewed electronically on the public computers located at the NRC's PDR, O1F21, One White Flint North, 11555 Rockville Pike, Rockville, Maryland 20852. The PDR reproduction contractor will copy documents for a fee.

Dated at Rockville, Maryland this 1st day of March, 2012.
For the U.S. Nuclear Regulatory Commission.
Marissa G. Bailey,
Deputy Director, Division of Fuel Cycle Safety and Safeguards, Office of Nuclear Material Safety and Safeguards.

[FR Doc. 2012-6002 Filed 3-12-12; 8:45 am]

BILLING CODE 7590-01-P